DEPARTMENT OF ENERGY

Federal Energy Regulatory Commission

Combined Notice of Filings #1

Take notice that the commission received the following accounting Request filings:

Docket Numbers: AC25-94-000.

Applicants: Southwestern Electric Power Company.

Description: Southwestern Electric Power Company submits request for approval of proposed journal entries re acquisition of Diversion Wind Energy LLC, consummated on 12/23/2024.

Filed Date: 5/2/25.

Accession Number: 20250502-5041.

Comment Date: 5 p.m. ET 5/23/25.

Take notice that the Commission received the following exempt wholesale generator filings:

Docket Numbers: EG25-309-000.

Applicants: Sierra BESS LLC.

Description: Sierra BESS LLC submits Notice of Self-Certification of Exempt Wholesale Generator Status.

Filed Date: 4/30/25.

Accession Number: 20250430-5680.

Comment Date: 5 p.m. ET 5/21/25.

Docket Numbers: EG25-310-000.

Applicants: Flickertail Wind, LLC.

Description: Flickertail Wind, LLC submits Notice of Self-Certification of Exempt Wholesale Generator Status.

Filed Date: 5/2/25.

Accession Number: 20250502-5135.

Comment Date: 5 p.m. ET 5/23/25.

Take notice that the Commission received the following electric rate filings:

Docket Numbers: ER17-1931-013; ER14-594-024; ER14-867-010; ER14-868-011; ER17-1930-013; ER17-1932-013; ER20-649-010.

Applicants: AEP Energy Partners, Inc., Southwestern Electric Power Company, Public Service Company of Oklahoma, AEP Retail Energy Partners, AEP Energy, Inc., Ohio Power Company, AEP Texas Inc.

Description: Notice of Change in Status of AEP Texas Inc., et al.

Filed Date: 4/30/25.

Accession Number: 20250430-5688.

Comment Date: 5 p.m. ET 5/21/25.

Docket Numbers: ER20-2845-004; ER18-315-004; ER20-1657-003; ER20-2846-004; ER25-1104-001.

Applicants: Aulander Holloman Solar, LLC, Mechanicsville Lessee, LLC, Mechanicsville Solar, LLC, Wildwood Lessee, LLC, Albemarle Beach Solar, LLC.

Description: Notice of Non-Material Change in Status of Albemarle Beach Solar, LLC, et al.

Filed Date: 4/30/25.

Accession Number: 20250430-5689.

Comment Date: 5 p.m. ET 5/21/25.

Docket Numbers: ER25-2129-001.

Applicants: Commonwealth Edison Company.

Description: Tariff Amendment: Errata to ComEd Amendment to Attachment H-13A in ER25-2129 to be effective 5/1/2025.

Filed Date: 5/2/25.

Accession Number: 20250502-5097.

Comment Date: 5 p.m. ET 5/23/25.

Docket Numbers: ER25-2139-000.

Applicants: PJM Interconnection, L.L.C.

Description: § 205(d) Rate Filing: Amendment to Service Agreement No. 6775; Queue No. AD1-151 to be effective 7/2/2025.

Filed Date: 5/2/25.

Accession Number: 20250502-5032.

Comment Date: 5 p.m. ET 5/23/25.

Docket Numbers: ER25-2140-000.

Applicants: PJM Interconnection, L.L.C.

Description: § 205(d) Rate Filing: Amendment to Service Agreement No. 5822; Queue No. AE1-143 to be effective 7/2/2025.

Filed Date: 5/2/25.

Accession Number: 20250502-5043.

Comment Date: 5 p.m. ET 5/23/25.

Docket Numbers: ER25-2141-000.

Applicants: Southwest Power Pool, Inc.

Description: § 205(d) Rate Filing: Revisions to Attachments AE and AF to Enhance Offer Validation to be effective 12/31/9998.

Filed Date: 5/2/25.

Accession Number: 20250502-5051.

Comment Date: 5 p.m. ET 5/23/25.

Docket Numbers: ER25-2142-000.

Applicants: MATL LLP.

Description: Compliance filing: Order No. 676-K Compliance Filing (RM05-5) to be effective 2/27/2026.

Filed Date: 5/2/25.

Accession Number: 20250502-5052.

Comment Date: 5 p.m. ET 5/23/25.

Docket Numbers: ER25-2143-000.

Applicants: PJM Interconnection, L.L.C.

Description: § 205(d) Rate Filing: Necessary Studies Agreement, Original SA No. 7672; Queue Position No. AF2-122 to be effective 7/2/2025.

Filed Date: 5/2/25.

Accession Number: 20250502-5056.

Comment Date: 5 p.m. ET 5/23/25.

Docket Numbers: ER25-2144-000.

Applicants: Midcontinent Independent System Operator, Inc., Ameren Services Company, Ameren Transmission Company of Illinois.

Description: § 205(d) Rate Filing: Ameren Transmission Company of Illinois submits tariff filing per 35.13(a)(2)(iii: 2025-05-02_Ameren Services Request for Transmission Rate Incentives to be effective 7/2/2025.

Filed Date: 5/2/25.

Accession Number: 20250502-5071.

Comment Date: 5 p.m. ET 5/23/25.

Docket Numbers: ER25-2146-000.

Applicants: CenterPoint Energy Houston Electric, LLC.

Description: § 205(d) Rate Filing: TFO Tariff Interim Rate Revision to Conform with PUCT to be effective 5/2/2025.

Filed Date: 5/2/25.

Accession Number: 20250502-5118.

Comment Date: 5 p.m. ET 5/23/25.

Docket Numbers: ER25-2147-000.

Applicants: New York Independent System Operator, Inc.

Description: Compliance filing: NYISO Compliance: Conform FERC eTariff Records to be effective 12/3/2024.

Filed Date: 5/2/25.

Accession Number: 20250502-5120.

Comment Date: 5 p.m. ET 5/23/25.

Docket Numbers: ER25-2148-000.

Applicants: PJM Interconnection, L.L.C.

Description: § 205(d) Rate Filing: Original GIA, SA No. 7646; Project Identifier No. AC2-111/AF1-071 to be effective 4/2/2025.

Filed Date: 5/2/25.

Accession Number: 20250502-5157.

Comment Date: 5 p.m. ET 5/23/25.

Docket Numbers: ER25-2149-000.

Applicants: ISO New England Inc., New England Power Pool Participants Committee.

Description: § 205(d) Rate Filing: ISO New England Inc. submits tariff filing per 35.13(a)(2)(iii: Revisions to Revise Certain Dates Related to Order 2023 Transition Process to be effective 5/3/2025.

Filed Date: 5/2/25.

Accession Number: 20250502-5184.

Comment Date: 5 p.m. ET 5/23/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes.

For public inquiries and assistance with making filings such as interventions, comments, or requests for rehearing, the public is encouraged to contact OPP at (202) 502-6595 or OPP@ferc.gov.

Dated: May 2, 2025.
Carlos D. Clay,
Deputy Secretary.

[FR Doc. 2025-08050 Filed 5-7-25; 8:45 am]

BILLING CODE 6717-01-P